DEPARTMENT OF AGRICULTURE

Forest Service

Siskiyou County Resource Advisory Committee

AGENCY: Forest Service, USDA.

ACTION: Notice of meeting.

SUMMARY: The Siskiyou County Resource Advisory Committee (RAC) will meet on August 19, 2002, and then again on August 26, 2002 in Yreka, California. The purpose of the meetings is to review the fiscal year 2002 project proposals in order to make recommendations to the designated federal official.

DATES: The meetings will be held August 19, 2002 from 1 p.m. to 7 p.m., and August 26, 2002 from 4 p.m. to 8 p.m.

ADDRESSES: The meetings will be held at the Yreka High School Library, Preece Way, Yreka, California.

FOR FURTHER INFORMATION CONTACT: Brian Harris, Meeting Coordinator, USDA, Klamath National Forest, 1312 Fairlane Road, Yreka, California, 96097, (530) 841-4485; E-mail bdharris@fs.fed.us.

SUPPLEMENTARY INFORMATION: The meeting is open to the public. Public comment opportunity will be provided and individuals will have the opportunity to address the Committee at that time.

Dated: July 25, 2002.
Margaret J. Boland,
Forest Supervisor.

[FR Doc. 02-19479 Filed 8-1-02; 8:45 am]

BILLING CODE 3410-11-M